DEPARTMENT OF EDUCATION

Education Research and Special Education Research Grant Programs; Institute of Education Sciences; Overview Information; Education Research and Special Education Research Grant Programs; Notice Inviting Applications for New Awards for Fiscal Year (FY) 2012

Catalog of Federal Domestic Assistance (CFDA) Numbers: 84.305A, 84.305B, 84.305D, 84.305E, 84.324A, 84.324B, and 84.324C.

SUMMARY: The Director of the Institute of Education Sciences (Institute) announces the Institute's FY 2012 competitions for grants to support education research and special education research. The Director takes this action under the Education Sciences Reform Act of 2002, title I of Public Law 107-279. The intent of these grants is to provide national leadership in expanding fundamental knowledge and understanding of education from early childhood education through postsecondary and adult education.

Full Text of Announcement

I. Funding Opportunity Description

Purpose of Program: The central purpose of the Institute's research grant programs is to provide parents, educators, students, researchers, policymakers, and the general public with reliable and valid information about education practices that support learning and improve academic achievement and access to education opportunities for all students. In carrying out its grant programs, the Institute provides support for programs of research in areas of demonstrated national need.

Competitions in this Notice: The Institute will conduct nine research competitions in FY 2012 through two of its National Education Centers.

The Institute's National Center for Education Research (NCER) will hold five competitions: two competitions for education research; one competition for education research training; one competition for research on statistical and research methodology in education; and one competition for evaluation of State and local education programs and policies.

The Institute's National Center for Special Education Research (NCSER) will hold four competitions: two competitions for special education research, one competition for special education research training, and one competition for special education research and development centers.

NCER Competitions

Education Research. Under the two education research competitions, NCER will consider only applications that address one of the following education research topics:

• Reading and Writing

• Mathematics and Science Education

• Cognition and Student Learning

• Effective Teachers and Effective Teaching

• Social and Behavioral Context for Academic Learning

• Improving Education Systems: Policies, Organization, Management, and Leadership

• Early Learning Programs and Policies

• English Learners

• Postsecondary and Adult Education

• Education Technology

Education Research Training. Under the education research training competition, NCER will consider only applications for the Postdoctoral Research Training Program in the Education Sciences.

Research on Statistical and Research Methodology in Education. Under the research on statistical and research methodology in education competition, NCER will consider only applications that address research on statistical and research methodology in education.

Evaluation of State and Local Education Programs and Policies. Under the Evaluation of State and Local Education Programs and Policies competition, NCER will consider only applications that address the evaluation of State and local education programs and policies.

NCSER Competitions

Special Education Research. Under the two special education research competitions, NCSER will consider only applications that address one of the following special education research topics:

• Early Intervention and Early Learning in Special Education

• Reading, Writing, and Language Development

• Mathematics and Science Education

• Social and Behavioral Outcomes to Support Learning

• Transition Outcomes for Special Education Secondary Students

• Cognition and Student Learning in Special Education

• Professional Development for Teachers and Related Services Providers

• Special Education Policy, Finance, and Systems

• Autism Spectrum Disorders

• Technology for Special Education

• Families of Children with Disabilities

Special Education Research Training. Under the special education research training competition, NCSER will consider only applications for the Postdoctoral Research Training Program in Special Education.

Special Education Research and Development Centers. Under the special education research and development centers competition, NCSER will consider only applications that address the following research topics:

• Interventions for Families of Students with Autism Spectrum Disorders

• Interventions for Families of Students with Emotional and Behavioral Disorders

Program Authority: 20 U.S.C. 9501 et seq.

Applicable Regulations: The Education Department General Administrative Regulations (EDGAR) in 34 CFR parts 74, 77, 80, 81, 82, 84, 85, 86, 97, 98, and 99. In addition, 34 CFR part 75 is applicable, except for the provisions in 34 CFR 75.100, 75.101(b), 75.102, 75.103, 75.105, 75.109(a), 75.200, 75.201, 75.209, 75.210, 75.211, 75.217(a)-(c), 75.219, 75.220, 75.221, 75.222, and 75.230.

Note: The regulations in 34 CFR part 86 apply to institutions of higher education only.

II. Award Information

Type of Award: Discretionary grants and cooperative agreements.

Fiscal Information: Although Congress has not yet enacted an appropriation for fiscal year 2012, the Institute is inviting applications for these competitions now so that it may give applicants adequate time to prepare their applications before the first round of competitions takes place this spring. The Department may announce additional topics later in 2011. The actual award of grants will depend on the availability of funds. The number of awards made under each competition will depend on the quality of the applications received for that competition and the availability of funds. The size of the awards will depend on the scope of the projects proposed.

III. Eligibility Information

1. Eligible Applicants: Applicants that have the ability and capacity to conduct scientifically valid research are eligible to apply. Eligible applicants include, but are not limited to, non-profit and for-profit organizations and public and private agencies and institutions, such as colleges and universities.

2. Cost Sharing or Matching: These programs do not require cost sharing or matching.

IV. Application and Submission Information

1. Request for Applications and Other Information: Information regarding program and application requirements for the competitions will be contained in the NCER and NCSER Request for Applications (RFAs), which will be available at the following Web site: http://ies.ed.gov/funding/.

RFAs Available: The RFAs for the education research, special education research, education research training, special education research training, research on statistical and research methodology in education, and evaluation of State and local education programs and policies competitions will be available at the Web site listed above on or before February 28, 2011. The RFA for the special education research and development centers competition will be available at the Web site listed above on or before March 28, 2011. The dates on which the application packages for these competitions will be available are indicated in the chart at the end of this notice.

Information regarding selection criteria, requirements concerning the content of an application, and review procedures for the competitions are in the RFAs.

2. Deadline for Transmittal of Applications: The deadline dates for transmittal of applications invited under this notice are indicated in the chart at the end of this notice and in the RFAs for the competitions.

3. Submission Requirements: Applications for grants under these competitions must be submitted electronically using the Grants.gov Apply site (Grants.gov). For information (including dates and times) about how to submit your application electronically, or in paper format by mail or hand delivery if you qualify for an exception to the electronic submission requirement, please refer to section V. 1. Electronic Submission of Applications in this notice.

We do not consider an application that does not comply with the deadline requirements.

Individuals with disabilities who need an accommodation or auxiliary aid in connection with the application process should contact the person listed under FOR FURTHER INFORMATION CONTACT in section VIII of this notice. If the Department provides an accommodation or auxiliary aid to an individual with a disability in connection with the application process, the individual's application remains subject to all other requirements and limitations in this notice.

4. Data Universal Numbering System Number, Taxpayer Identification Number, and Central Contractor Registry: To do business with the Department of Education, you must—

a. Have a Data Universal Numbering System (DUNS) number and a Taxpayer Identification Number (TIN);

b. Register both your DUNS number and TIN with the Central Contractor Registry (CCR), the Government's primary registrant database;

c. Provide your DUNS number and TIN on your application; and

d. Maintain an active CCR registration with current information while your application is under review by the Department and, if you are awarded a grant, during the project period.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR registration process may take five or more business days to complete. If you are currently registered with the CCR, you may not need to make any changes. However, please make certain that the TIN associated with your DUNS number is correct. Also note that you will need to update your CCR registration on an annual basis. This may take three or more business days to complete.

In addition, because you are required to submit your application via Grants.gov, you must (1) be designated by your organization as an Authorized Organization Representative (AOR); and (2) register yourself with Grants.gov as an AOR. Details on these steps are outlined in the Grants.gov 3-Step Registration Guide (see http://www.grants.gov/section910/Grants.govRegistrationBrochure.pdf).

V. Submission of Applications

Applications for grants under these competitions must be submitted electronically unless you qualify for an exception to this requirement in accordance with the instructions in this section.

1. Electronic Submission of Applications

Applications for grants under the Education Research, Education Research Training, Research on Statistical and Research Methodology in Education, and Evaluation of State and Local Education Programs and Policies competitions, CFDA Numbers 84.305A, 84.305B, 84.305D, and 84.305E, and for grants under the Special Education Research, Special Education Research Training, and Special Education Research and Development Centers competitions, CFDA Numbers 84.324A, 84.324B, and 84.324C must be submitted electronically using the Governmentwide Grants.gov Apply site at http://www.Grants.gov. Through this site, you will be able to download a copy of the application package, complete it offline, and then upload and submit your application. You may not e-mail an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant applications for the Education Research, Education Research Training, Research on Statistical and Research Methodology in Education, Evaluation of State and Local Education Programs and Policies, Special Education Research, Special Education Research Training, and Special Education Research and Development Centers competitions at http://www.Grants.gov. You must search for the downloadable application package for each competition by the CFDA number. Do not include the CFDA number's alpha suffix in your search (e.g., search for 84.324, not 84.324A).

Please note the following:

• When you enter the Grants.gov site, you will find information about submitting an application electronically through the site, as well as the hours of operation.

• Applications received by Grants.gov are date and time stamped. Your application must be fully uploaded and submitted, and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for the competition to ensure that you submit your application in a timely manner to the Grants.gov system. You can also find the Education Submission Procedures pertaining to Grants.gov under News and Events on the Department's G5 system home page at http://www.G5.gov.

• You will not receive additional point value because you submit your application in electronic format, nor will we penalize you if you qualify for an exception to the electronic submission requirement, as described elsewhere in this section, and submit your application in paper format.

• You must submit all documents electronically, including all information you typically provide on the following forms: Application for Federal Assistance (SF 424 Research & Related (R&R)) and the other R&R forms including, Project Performance Site Locations, Other Project Information, Senior/Key Person Profile (Expanded), Research and Related Budget (Total Federal and Non-Federal), and all necessary assurances and certifications.

• If you submit your application electronically, you must attach any narrative sections of your application as files in a .PDF (Portable Document) format only. If you upload a file type other than a .PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by e-mail. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VIII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because--

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevent you from using the Internet to submit your application.

If you mail your written statement to the Department, it must be postmarked no later than two weeks before the application deadline date. If you fax your written statement to the Department, we must receive the faxed statement no later than two weeks before the application deadline date.

Address and mail or fax your statement to: Elizabeth Payer, U.S. Department of Education, 555 New Jersey Avenue, NW., room 602C, Washington, DC 20208. FAX: (202) 219-1466.

Your paper application must be submitted in accordance with the mail or hand delivery instructions described in this notice.

2. Submission of Paper Applications by Mail

If you qualify for an exception to the electronic submission requirement, you may mail (through the U.S. Postal Service or a commercial carrier) your application to the Department. You must mail the original and two copies of your application, on or before the application deadline date, to the Department at the following address:

U.S. Department of Education, Application Control Center, Attention: (CFDA Number: [Identify the CFDA number, including suffix letter, if any, for the competition under which you are submitting an application.]), LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

3. Submission of Paper Applications by Hand Delivery

If you qualify for an exception to the electronic submission requirement, you (or a courier service) may deliver your paper application to the Department by hand. You must deliver the original and two copies of your application by hand, on or before the application deadline date, to the Department at the following address:

U.S. Department of Education, Application Control Center, Attention: (CFDA Number: [Identify the CFDA number, including suffix letter, if any, for the competition under which you are submitting an application.]), 550 12th Street, SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 10 of the SF 424 (R&R) the CFDA number, including suffix letter, if any, of the competition under which you are submitting your application; and

(2) The Application Control Center will mail to you a notification of receipt of your grant application. If you do not receive this notification within 15 business days from the application deadline date, you should call the U.S. Department of Education Application Control Center at (202) 245-6288.

VI. Application Review Information

1. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

2. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VII. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Grant Administration: Applicants should budget for a three-day meeting for project directors to be held in Washington, DC.

4. Reporting: (a) If you apply for a grant under one of the competitions announced in this notice, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

5. Performance Measures: To evaluate the overall success of its education research grant program, the Institute annually assesses the number of IES-supported interventions with evidence of efficacy in improving student outcomes in reading or writing and mathematics or science and in enhancing teacher characteristics that have been shown to have a positive effect on student outcomes. For the special education research grant program, the Institute annually assesses the number of IES-supported interventions with evidence of efficacy in improving student outcomes in reading, writing, or language, school readiness, and behavior. The data for these annual measures are based on What Works Clearinghouse (WWC) reviews of initial findings on interventions from IES research grants, such as findings that will have been presented as papers at a convention or working papers provided to IES by its grantees. The WWC reviews these reports and rates them using the WWC published standards to determine whether the evidence from these research grants meets evidence standards of the WWC and demonstrates a statistically significant positive effect in improving the relevant outcome. The Institute also annually assesses the performance of its research training and special education research training programs by measuring the number of individuals who have been or are being trained in IES-funded research training programs.

6. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VIII. Agency Contact

FOR FURTHER INFORMATION CONTACT: The contact person associated with a particular research competition is listed in the chart at the end of this notice and in the RFA package. The date on which applications will be available, the deadline for transmittal of applications, the estimated range of awards, and the project period are also listed in the chart and in the RFAs that are posted at the following Web sites:

http://ies.ed.gov/funding/.

http://www.ed.gov/about/offices/list/ies/programs.html.

Accessible Format: Individuals with disabilities can obtain this document and a copy of the RFA package in an accessible format (e.g., braille, large print, audiotape, or computer diskette) on request to the appropriate program contact person listed in the chart at the end of this notice.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: February 25, 2011.
John Q. Easton,
Director, Institute of Education Sciences.

Institute of Education Sciences: FY 2012 Grant Competitions To Support Education Research and Special Education Research
CFDA number and name | Application package available | Deadline for transmittal of applications | Estimated range of awards* | Project period | For further information contact
National Center for Education Research (NCER)
84.305A-1 Education Research:
• Reading and Writing | April 21, 2011 | June 23, 2011 | $100,000 to $1,000,000 | Up to 5 years | Emily Doolittle Emily.Doolittle@ed.gov.
• Mathematics and Science Education |  |  |  |  |
• Cognition and Student Learning |  |  |  |  |
• Effective Teachers and Effective Teaching |  |  |  |  |
• Social and Behavioral Context for Academic Learning |  |  |  |  |
• Improving Education Systems: Policies, Organization, Management, and Leadership |  |  |  |  |
• Early Learning Programs and Policies |  |  |  |  |
• English Learners |  |  |  |  |
• Postsecondary and Adult Education |  |  |  |  |
• Education Technology |  |  |  |  |
84.305A-2 Education Research:
• Reading and Writing | July 21, 2011 | September 22, 2011 | $100,000 to $1,000,000 | Up to 5 years | Emily Doolittle Emily.Doolittle@ed.gov.
• Mathematics and Science Education |  |  |  |  |
• Cognition and Student Learning |  |  |  |  |
• Effective Teachers and Effective Teaching |  |  |  |  |
• Social and Behavioral Context for Academic Learning |  |  |  |  |
• Improving Education Systems: Policies, Organization, Management, and Leadership |  |  |  |  |
• Early Learning Programs and Policies |  |  |  |  |
• English Learners |  |  |  |  |
• Postsecondary and Adult Education |  |  |  |  |
• Education Technology
84.305B Education Research Training:
• Postdoctoral Research Training Program in the Education Sciences | July 21, 2011 | September 22, 2011 | $91,500 to $137, 400 | Up to 5 years | Meredith Larson Meredith.Larson@ed.gov.
84.305D Research on Statistical and Research Methodology in Education: | July 21, 2011 | September 22, 2011 | $40,000 to $330,000 | Up to 3 years | Allen Ruby Allen.Ruby@ed.gov.
84.305E Evaluation of State and Local Education Programs and Policies: | July 21, 2011 | September 22, 2011 | $500,000 to $1,000,000 | Up to 5 years | Allen Ruby Allen.Ruby@ed.gov.
National Center for Special Education Research (NCSER)
84.324A-1 Special Education Research:
• Early Intervention and Early Learning in Special Education | April 21, 2011 | June 23, 2011 | $100,000 to $1,000,000 | Up to 5 years | Amy Sussman Amy.Sussman@ed.gov.
• Reading, Writing, and Language Development |  |  |  |  |
• Mathematics and Science Education |  |  |  |  |
• Social and Behavioral Outcomes to Support Learning |  |  |  |  |
• Transition Outcomes for Special Education Secondary Students |  |  |  |  |
• Cognition and Student Learning in Special Education |  |  |  |  |
• Professional Development for Teachers and Related Services Providers |  |  |  |  |
• Special Education Policy, Finance, and Systems |  |  |  |  |
• Autism Spectrum Disorders |  |  |  |  |
• Technology for Special Education |  |  |  |  |
• Families of Children with Disabilities
84.324A-2 Special Education Research:
• Early Intervention and Early Learning in Special Education | July 21, 2011 | September 22, 2011 | $100,000 to $1,000,000 | Up to 5 years | Amy Sussman Amy.Sussman@ed.gov.
• Reading, Writing, and Language Development |  |  |  |  |
• Mathematics and Science Education |  |  |  |  |
• Social and Behavioral Outcomes to Support Learning |  |  |  |  |
• Transition Outcomes for Special Education Secondary Students |  |  |  |  |
• Cognition and Student Learning in Special Education |  |  |  |  |
• Professional Development for Teachers and Related Services Providers |  |  |  |  |
• Special Education Policy, Finance, and Systems |  |  |  |  |
• Autism Spectrum Disorders |  |  |  |  |
• Technology for Special Education |  |  |  |  |
• Families of Children with Disabilities
84.324B Special Education Research Training:
• Postdoctoral Research Training Program in Special Education | April 21, 2011 | June 23, 2011 | $91,500 to $137, 400 | Up to 5 years | Amy Sussman Amy.Sussman@ed.gov.
84.324C Special Education Research and Development Centers:
• Interventions for Families of Students with Autism Spectrum Disorders | July 21, 2011 | September 22, 2011 | $1,000,000 to $2,000,000 | Up to 5 years | Amy Sussman Amy.Sussman@ed.gov.
• Interventions for Families of Students with Emotional and Behavioral Disorders |  |  |  |  |
* These estimates are annual amounts.
Note: The Department is not bound by any estimates in this notice.
Note: If you use a telecommunications device for the deaf (TDD), call the Federal Relay Service, toll free, at 1-800-877-8339.

[FR Doc. 2011-4821 Filed 3-2-11; 8:45 am]

BILLING CODE 4000-01-P